DEPARTMENT OF HEALTH AND HUMAN SERVICES

Centers for Medicare & Medicaid Services

[CMS-3104-N]

Medicare Program; Renewal and Amendment of the Charter of the Medicare Coverage Advisory Committee (MCAC)

AGENCY: Centers for Medicare & Medicaid Services (CMS), HHS.

ACTION: Notice.

SUMMARY: This notice announces the renewal and amendment of the Charter of the Medicare Coverage Advisory Committee (the Committee). The Committee advises the Secretary of the Department of Health and Human Services (the Secretary) and the Administrator of the Centers for Medicare & Medicaid Services on whether adequate evidence exists to determine whether specific medical items and services are reasonable and necessary under Title XVIII of the Social Security Act.

FOR FURTHER INFORMATION CONTACT: Michelle Atkinson, Office of Clinical Standards and Quality, CMS, 7500 Security Boulevard, Mail Stop C1-09-06, Baltimore, MD 21244, (410) 786-2881, or e-mail matkinson@cms.hhs.gov.

SUPPLEMENTARY INFORMATION:

I. Background

On December 14, 1998, we published a notice in the Federal Register (63 FR 68780) announcing establishment of the Medicare Coverage Advisory Committee (MCAC). The Secretary signed the initial charter for the MCAC on November 24, 1998.

The MCAC, chartered under 42 U.S.C. 217(a), section 222 of the Public Health Service Act, as amended, is governed by the provisions of the Federal Advisory Committee Act (FACA) (Pub. L. 92-463 as amended (5 U.S.C. Appendix 2)), which sets forth standards for the formulation and use of advisory committees.

The Committee consists of a maximum of 100 appointed members from authorities in clinical and administrative medicine, biologic and physical sciences, public health administration, health care data and information management and analysis, the economics of health care, medical ethics, and other related professions. Each Committee meeting will deal with one or more specific clinical topics, and will generally include 13 to 15 Committee members. A roster will be developed and published in advance for each Committee meeting. Members will be chosen to serve on the roster for each Committee meeting as to their expertise and topic to be discussed.

The Committee reviews and evaluates medical literature, reviews technical assessments, and examines data and information on the effectiveness and appropriateness of medical items and services that are covered or eligible for coverage under Medicare. The Committee works from an agenda provided by the Designated Federal Official that lists specific issues, and develops technical advice in order to assist us in determining reasonable and necessary applications of medical services and technology.

II. Provision of This Notice

This notice announces the signing of the MCAC Charter Amendment on October 30, 2002 and the renewal by the Secretary on November 22, 2002. The Charter will terminate on November 22, 2004, unless renewed by the Secretary.

III. Copies of the Charter

You may obtain a copy of the Secretary's Charter for the MCAC by submitting a request to Maria Ellis, Office of Clinical Standards and Quality, CMS, 7500 Security Blvd., Mail Stop S3-02-01, Baltimore, MD 21244, 410-786-0309, or e-mail the request to mellis@cms.hhs.gov.

Authority: 5 U.S.C. App. 2, section 10(a)(1) and (a)(2).

(Catalog of Federal Domestic Assistance Program No. 93.774, Medicare—Supplementary Medical Insurance Program)
Dated: December 17, 2002.
Robert A. Streimer,
Acting Director, Office of Clinical Standards and , Quality, Centers for Medicare & Medicaid Services.

[FR Doc. 02-32653 Filed 12-26-02; 8:45 am]

BILLING CODE 4120-01-P